DEPARTMENT OF THE INTERIOR

National Park Service

[NPS-WASO-NAGPRA-21877]; [PPWOCRADN0-PCU00RP14.R50000]

Native American Graves Protection and Repatriation Review Committee Findings and Recommendations Regarding Human Remains and Associated Funerary Objects for the Pueblo of Santa Ana, New Mexico

AGENCY: National Park Service, Interior.

ACTION: Findings and recommendations.

SUMMARY: The National Park Service is publishing this notice as part of its administrative responsibilities pursuant to the Native American Graves Protection and Repatriation Act (NAGPRA or the Act). The recommendations, findings, and actions in this notice are advisory only and are not binding on any person and may be admissible in any action brought under section 15 of the Act. The Native American Graves Protection and Repatriation Review Committee (Review Committee) finds there is a relationship of shared group identity that can be reasonably traced between certain Native American human remains and associated funerary objects and the Kewa Pueblo, New Mexico, Pueblo of San Felipe, New Mexico, and Pueblo of Santa Ana, New Mexico. The Review Committee recommends that the Pueblo of Santa Ana, New Mexico, take the lead in repatriation and reburial of the human remains.

ADDRESSES: The Review Committee meeting transcript containing the proceedings and Review Committee deliberation and findings is available online at http://www.nps.gov/nagpra/Review or from the National NAGPRA Program upon request (Nagpra_info@nps.gov).

SUPPLEMENTARY INFORMATION: The recommendations, findings, and actions of the Review Committee are advisory only and not binding on any person. These advisory findings and recommendations do not necessarily represent the views of the National Park Service or Secretary of the Interior. The National Park Service and the Secretary of the Interior have not taken a position on these matters.

The Review Committee was established by Section 8 of the Act, and is an advisory body governed by the Federal Advisory Committee Act, as amended, 5 U.S.C., App. Pursuant to 25 U.S.C. 3006(d), any records and findings made by the Review Committee relating to the identity or cultural affiliation of any cultural items and the return of such items may be admissible in any action brought under section 15 of the Act (25 U.S.C. 3013).

At its July 13, 2016, public meeting in Missoula, MT, the Review Committee heard a request from the Pueblo of Santa Ana, New Mexico, as an affected party. The Pueblo of Santa Ana requested a finding of fact and the facilitation of a resolution of a dispute before the Review Committee and asked that the Review Committee consider the cultural affiliation and most appropriate claimant for human remains and associated funerary objects under the control of the American Museum of Natural History (AMNH).

In 1914, human remains representing, at minimum, 37 individuals and 3 associated funerary objects were removed from Pueblo San Pedro Viejo, in Bernalillo County, NM, during excavations sponsored by the AMNH. AMNH has determined that there is a relationship of shared group identity (cultural affiliation) that can be reasonably traced between these Native American human remains and associated funerary objects and Kewa Pueblo, New Mexico, Pueblo of San Felipe, New Mexico, and Pueblo of Santa Ana, New Mexico.

The AMNH published its determination of cultural affiliation in a Notice of Inventory Completion in the Federal Register (80 FR 76304-76305, December 8, 2015). Subsequently, the Pueblo of San Felipe and the Pueblo of Santa Ana made separate requests for the repatriation of the human remains and associated funerary objects. Based on the information in AMNH's possession, AMNH could not determine the most appropriate of the two claimants pursuant to the NAGPRA regulations (43 CFR 10.10(c)(2)).

The Pueblo of Santa Ana disputes AMNH's determination that the Kewa Pueblo, New Mexico, and the Pueblo of San Felipe, New Mexico, are culturally affiliated with Pueblo San Pedro Viejo and the individuals whose human remains were removed from the site. The Pueblo of Santa Ana disputes AMNH's decision that it could not determine the Pueblo of Santa Ana to be the most appropriate claimant. The Pueblo of Santa Ana requested that the Review Committee review the record, first make a finding of fact on cultural affiliation, and then, if necessary, make a recommendation to the parties on resolving the dispute concerning the most appropriate claimant.

Such finding of fact and facilitation of the resolution of this dispute between the Pueblo of Santa Ana and AMNH are the express responsibilities of the Review Committee under the provisions of Act at 25 U.S.C. 3006(c)(3) and (4). The Designated Federal Officer and the Review Committee Chair agreed that the Review Committee would consider the request at a public meeting held on July 13, 2016, in Missoula, MT.

Finding of Fact and Recommendation to the Parties: All seven Review Committee members currently appointed by the Secretary of the Interior participated. By a vote of five (5) to one (1) (the Chair did not vote), the Review Committee:

(a) Agreed with AMNH's determination that there is a relationship of shared group identity that can be reasonably traced between the Native American human remains and associated funerary objects removed from Pueblo San Pedro Viejo and the Kewa Pueblo, New Mexico, Pueblo of San Felipe, New Mexico, and Pueblo of Santa Ana, New Mexico; and

(b) recommended that “the Pueblo of Santa Ana take the lead in repatriation and reburial.”

Dated: September 6, 2016.
Armand Minthorn,
Chair, Native American Graves Protection and Repatriation Review Committee.

[FR Doc. 2016-24467 Filed 10-7-16; 8:45 am]

BILLING CODE 4312-52-P